DEPARTMENT OF LABOR

Employment and Training Administration

[TA-W-38,855]

Willamette Industries, Inc., Foster Plywood Division; Now Known as Weyerhaeuser Company, Sweet Home, Oregon; Amended Notice of Revised Determination on Reconsideration

In accordance with section 223 of the Trade Act of 1974 (19 U.S.C. 2273) the Department of Labor issued a Revised Determination on Reconsideration on September 28, 2001, applicable to workers of Willamette Industries, Inc., Foster Plywood Division, Sweet Home, Oregon. The notice was published in the Federal Register on October 19, 2001 (FR 66 53253).

At the request of the State agency, the Department reviewed the revised determination for workers of the subject firm. Information provided by the State and the company shows that Weyerhaeuser Company purchased Willamette Industries, Inc. in March 2002 and is now known as Weyerhaeuser Company.

Information also shows that workers separated from employment at the subject firm, had their wages reported under a separate unemployment insurance (UI) tax account for Weyerhaeuser Company.

Accordingly, the Department is amending the revised determination to properly reflect this matter.

The intent of the Department's revised determination is to include all workers of Willamette Industries, Inc., Foster Plywood Division, now known as Weyerhaeuser Company who were adversely affected by increased imports.

The amended notice applicable to TA-W-38,855 is hereby issued as follows:

All workers engaged in the production of veneer core at Willamette Industries, Inc., Foster Plywood Division, now known as Weyerhaeuser Company , Sweet Home, Oregon who became totally or partially separated from employment on or after March 1, 2000, through September 28, 2003, are eligible to apply for adjustment assistance under section 223 of the Trade Act of 1974.

Signed at Washington, DC this 4th day of April, 2001.
Edward A. Tomchick,
Director, Division of Trade Adjustment Assistance.

[FR Doc. 02-9745 Filed 4-19-02; 8:45 am]

BILLING CODE 4510-30-M